DEPARTMENT OF DEFENSE

Office of the Secretary

[Docket ID: DoD-2023-OS-0013]

Proposed Collection; Comment Request

AGENCY: Office of the Under Secretary of Defense for Personnel and Readiness (OUSD(P&R)), Department of Defense (DoD).

ACTION: 60-Day information collection notice.

SUMMARY: In compliance with the Paperwork Reduction Act of 1995, the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

FOR FURTHER INFORMATION CONTACT: To request more information on this proposed information collection or to obtain a copy of the proposal and associated collection instruments, please write to: Office of the Assistant Secretary of Defense for Manpower & Reserve Affairs, Attn: Director, Civil-Military Programs, 1500 Defense Pentagon, Room 2E565, Washington, DC 20301-1500 or contact Capt. Rick Howell, richard.a.howell6.mil@mail.mil, (703) 693-7493.

SUPPLEMENTARY INFORMATION: Title; Associated Form; and OMB Number: Junior Reserve Officers' Training Corps Instructor Prohibited Activities Acknowledgement; DD Form X854; OMB Control Number 0704-JRIA.

Needs and Uses: This information is needed to confirm that school district employees assigned to JROTC duty understand DoD's expectations for the performance of their duties and expect conduct in the execution thereof.

Affected Public: Individuals or households.

Annual Burden Hours: 1,875.

Number of Respondents: 7,500.

Responses per Respondent: 1.

Annual Responses: 7,500.

Average Burden per Response: 15 minutes.

Frequency: As needed.

Dated: February 7, 2023.
Aaron T. Siegel,
Alternate OSD Federal Register Liaison Officer, Department of Defense.

[FR Doc. 2023-02899 Filed 2-9-23; 8:45 am]

BILLING CODE 5001-06-P